DEPARTMENT OF ENERGY

Federal Energy Regulatory Commission

Combined Notice of Filings

Take notice that the Commission has received the following Natural Gas Pipeline Rate and Refund Report filings:

Filings Instituting Proceedings

Docket Numbers: RP22-317-000.

Applicants: Granite State Gas Transmission, Inc.

Description: Compliance filing: Compliance Filing for Order No. 587-Z—NAESB Update to be effective6/1/2022.

Filed Date: 11/15/21.

Accession Number: 20211115-5000.

Comment Date: 5 p.m. ET 11/29/21.

Docket Numbers: RP22-318-000.

Applicants: Iroquois Gas Transmission System, L.P.

Description: § 4(d) Rate Filing: 11.15.21 Negotiated Rates—Twin Eagle Resource Management, LLC H-7300-89 to be effective 12/1/2021.

Filed Date: 11/15/21.

Accession Number: 20211115-5054.

Comment Date: 5 p.m. ET 11/29/21.

Docket Numbers: RP22-319-000.

Applicants: Tennessee Gas Pipeline Company, L.L.C.

Description: § 4(d) Rate Filing: Volume No. 2—Castleton SP367814 & 367815 and Citadel SP369972 to be effective 1/1/2022.

Filed Date: 11/15/21.

Accession Number: 20211115-5055.

Comment Date: 5 p.m. ET 11/29/21.

Docket Numbers: RP22-320-000.

Applicants: ANR Pipeline Company.

Description: Compliance filing: CP20-8_GCXP Compliance Filing to be effective 1/1/2022.

Filed Date: 11/15/21.

Accession Number: 20211115-5118.

Comment Date: 5 p.m. ET 11/29/21.

Docket Numbers: RP22-321-000.

Applicants: Discovery Gas Transmission LLC.

Description: § 4(d) Rate Filing: 2022 HMRE Surcharge Filing to be effective 1/1/2022.

Filed Date: 11/15/21.

Accession Number: 20211115-5128.

Comment Date: 5 p.m. ET 11/29/21.

Docket Numbers: RP22-322-000.

Applicants: SWN Energy Services Company, LLC, GEP Haynesville, LLC.

Description: Joint Petition for Temporary Waivers of Capacity Release Regulations, and Related Interstate Pipeline Tariff Provisions and Request for Expedited Consideration of SWN Energy Services Company, LLC, et al.

Filed Date: 11/15/21.

Accession Number: 20211115-5140.

Comment Date: 5 p.m. ET 11/29/21.

Docket Numbers: RP22-323-000.

Applicants: Transcontinental Gas Pipe Line Company, LLC.

Description: § 4(d) Rate Filing: 2021 GSS and LSS Fuel Percentage Changes to be effective 11/1/2021.

Filed Date: 11/15/21.

Accession Number: 20211115-5201.

Comment Date: 5 p.m. ET 11/29/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2021.
Debbie-Anne A. Reese,
Deputy Secretary.

[FR Doc. 2021-25400 Filed 11-19-21; 8:45 am]

BILLING CODE 6717-01-P